DEPARTMENT OF THE INTERIOR

Fish and Wildlife Service

50 CFR Part 17

[Docket No. FWS-R3-ES-2010-0068; 92220-1113-0000-B3]

RIN 1018-AX28

Endangered and Threatened Wildlife and Plants; Technical Corrections for Three Midwest Region Plant Species

AGENCY: Fish and Wildlife Service, Interior.

ACTION: Direct final rule.

SUMMARY: We, the U.S. Fish and Wildlife Service, announce the revised taxonomy of Lesquerella filiformis (Missouri bladderpod), Sedum integrifolium ssp. leedyi (Leedy's roseroot), and Mimulus glabratus var. michiganensis (Michigan monkey-flower) under the Endangered Species Act of 1973, as amended (Act). We are revising the List of Endangered and Threatened Plants to reflect the current scientifically accepted taxonomy and nomenclature of these species. We revise the scientific names of these species as follows: Physaria filiformis (=Lesquerella f.), Rhodiola integrifolia ssp. leedyi (=Sedum integrifolium ssp. l.), and Mimulus michiganensis (=M. glabratus var. michiganensis), respectively.

DATES: This rule is effective December 13, 2010, without further action, unless significant adverse comment is received by October 14, 2010. If significant adverse comment is received, we will publish a timely withdrawal of the rule in the Federal Register.

ADDRESSES: You may submit comments by one of the following methods:

• Federal eRulemaking Portal: http://www.regulations.gov. Follow the instructions for submitting comments to Docket No. FWS-R3-ES-2010-0068.

• U.S. mail or hand-delivery: Public Comments Processing, Attn: FWS-R3-ES-2010-0068; Division of Policy and Directives Management; U.S. Fish and Wildlife Service; 4401 N. Fairfax Drive, Suite 222; Arlington, VA 22203.

See Public Comments in SUPPLEMENTARY INFORMATION for more information about submitting comments.

FOR FURTHER INFORMATION CONTACT: Carlita Payne, Fish and Wildlife Biologist, U.S. Fish and Wildlife Service, Midwest Regional Office, Division of Endangered Species, 1 Federal Drive, Fort Snelling, MN 55111-4056; telephone 612-713-5350. Individuals who are hearing impaired or speech impaired may call the Federal Relay Service at 800-877-8337 for TTY (telephone typewriter or teletypewriter) assistance 24 hours a day, 7 days a week.

SUPPLEMENTARY INFORMATION:

Purpose of Direct Final Rule and Final Action

The purpose of this direct final rule is to notify the public that we are revising the List of Endangered and Threatened Plants to reflect the scientifically accepted taxonomy and nomenclature of three plant species listed under section 4 of the Act (16 U.S.C. 1531 et seq.). These changes to the List of Endangered and Threatened Plants (50 CFR 17.12(h)) reflect the most recently accepted scientific names in accordance with 50 CFR 17.12(b).

We are publishing this rule without a prior proposal because this is a noncontroversial action that does not alter the regulatory protections afforded to these species, and therefore, in the best interest of the public, should be undertaken in as timely a manner as possible. This rule will be effective, as published in this document, on the effective date specified in the DATES section, unless we receive significant adverse comments on or before the comment due date specified in the DATES section of this document. Significant adverse comments are comments that provide strong justifications as to why this rule should not be adopted or why it should be changed.

If we receive significant adverse comments, we will publish a document in the Federal Register withdrawing this rule before the effective date, and we will engage in the normal rulemaking process to promulgate these changes to 50 CFR 17.12.

Elsewhere in today's issue of the Federal Register, we have published a notice to initiate 5-year reviews that includes Physaria filiformis among six other Midwest species. We will give the same consideration to comments in regard to the taxonomy of Missouri bladderpod submitted in response to either this direct final rule or our notice to initiate 5-year reviews; you do not need to submit separate comments pertaining to this issue for both documents.

Public Comments

You may submit your comments and materials regarding this direct final rule by one of the methods listed in the ADDRESSES section. Please include sufficient information with your comments that allows us to verify any scientific or commercial information you include. We will not consider comments sent by e-mail or fax, or to an address not listed in the ADDRESSES section.

We will post all comments on http://www.regulations.gov. This generally means that we will post any personal information you provide us. Before including your address, phone number, e-mail address, or other personal information in your comment, you should be aware that your entire comment—including your personal identifying information—may be made publicly available at any time. While you can ask us in your comment to withhold your personal identifying information from public review, we cannot guarantee that we will be able to do so.

Comments and materials we receive, as well as supporting documentation we used in preparing this direct final rule, will be available for public inspection on the Internet at http://www.regulations.gov or by appointment, during normal business hours at the U.S. Fish and Wildlife Service Midwest Regional Office (see FOR FURTHER INFORMATION CONTACT). Please note that comments posted to http://www.regulations.gov are not immediately viewable. When you submit a comment, the system receives it immediately. However, the comment will not be publicly viewable until we post it, which might not occur until several days after submission. Information regarding this rule is available in alternative formats upon request (see FOR FURTHER INFORMATION CONTACT). For information pertaining to specific species, please contact the following Ecological Services Field Offices:

Species | Contact Person, Phone, E-mail | Contact Address
Physaria filiformis (=Lesquerella f.) | Charlie Scott, Field Supervisor, or Paul McKenzie, Endangered Species Coordinator; (573) 234-2132, extension 107, paul_mckenzie@fws.gov | Columbia Missouri Field Office, U.S. Fish and Wildlife Service, 101 Park DeVille Drive, Suite A, Columbia, MO 65203-0057.
Rhodiola integrifolia ssp. leedyi (=Sedum integrifolium ssp. l.) | Tony Sullins, Field Supervisor, or Phil Delphey, Endangered Species Coordinator; (612) 725-3548, phil_delphey@fws.gov | Twin Cities Field Office, U.S. Fish and Wildlife Service, 1401 American Boulevard E., Bloomington, MN 55425-1665.
Mimulus michiganensis (=M. glabratus var. michiganensis) | Acting Field Supervisor, or Tameka Dandridge, Biologist; (517) 351-8315, tameka_dandridge@fws.gov | East Lansing Field Office, U.S. Fish and Wildlife Service, 2651 Coolidge Road, Suite 101, East Lansing, MI 48823-5902.

Background

Section 17.12(b) of title 50 of the Code of Federal Regulations (CFR) requires us to use the most recently accepted scientific name of any plant species that we have determined to be an endangered or threatened species. Using the best available scientific information, this direct final rule documents taxonomic changes of the scientific names to three entries on the List of Endangered and Threatened Plants (50 CFR 17.12(h)). The basis for the taxonomic changes is supported by published studies in peer-reviewed journals. We revise the scientific names of these species under section 4 of the Act (16 U.S.C. 1531 et seq.) as follows: Physaria filiformis (=Lesquerella f.) (Missouri bladderpod), Rhodiola integrifolia ssp. leedyi (=Sedum integrifolium ssp. l.) (Leedy's roseroot), and Mimulus michiganensis (=M. glabratus var. michiganensis) (Michigan monkey-flower). We make these changes to the List of Endangered and Threatened Plants (50 CFR 17.12(h)) to reflect the most recently accepted scientific names in accordance with 50 CFR 17.12(b).

Taxonomic Classification

Physaria filiformis

The scientific name change of Physaria filiformis (Rollins) O'Kane & Al-Shehbaz (Missouri bladderpod) from Lesquerella filiformis Rollins (Rollins 1956, pp. 201-202; Rollins 1993, p. 618) is supported by Al-Shehbaz and O'Kane's (2002, pp. 319-320) extensive molecular, ecological, morphological, and distributional data. Al-Shehbaz and O'Kane (2002, p. 321) concluded that the genus Lesquerella should be united with the earlier-published genus Physaria, initially discussed in Gray (1848, pp. 161-162). Although Rollins (1939, pp. 393-398; 1993, pp. 588-589, pp. 696-697) supported the separation of the two genera because Physaria has didymous fruits with deep sinuses between the valves distally, and often proximally as well, he also noted strong similarities in the floral patterns, growth, and trichome morphology between Lesquerella and Physaria (Al-Shehbaz and O'Kane 2002, p. 319). The genera are also characterized by their colpate pollen grains, which is a distinguishable synapomorphic trait from the rest of the family (Al-Shehbaz and O'Kane 2002, p. 320). The new combination is Physaria filiformis (Rollins) O'Kane & Al-Shehbaz (Al-Shehbaz and O'Kane 2002, p. 323). Only North American species' nomenclatural adjustments were included in Al-Shehbaz and O'Kane's publication (2002, p. 321). This taxonomic change is included in our most recent 5-year review for the species (USFWS 2008, p. 2), as well as the reclassification of this plant from endangered to threatened status on October 15, 2003 (68 FR 59337). This species will continue to be listed as threatened.

Rhodiola integrifolia ssp. leedyi

The scientific name change of Rhodiola integrifolia ssp. leedyi (Leedy's roseroot) from Sedum integrifolium ssp. leedyi is supported by extensive morphological and genetic studies. Carl Linnaeus described the genus Rhodiola in 1753, recognizing it as distinct from the genus Sedum (Moran 2000, p. 137; Ohba 2003, p. 210), but many twentieth century authors regarded the genus as a synonym of Sedum L. (Ohba 1980, pp. 356-358). However, recent evidence, including chloroplast and nuclear DNA data, support the original recognition of Sedum and Rhodiola as distinct genera (Ohba 1980, pp. 356-358; Van Ham and `T Hart 1998, p. 127; Ohba 2003, p. 210; Mayuzumi and Ohba 2004, p. 588). R. T. Clausen (1975, p. 474), following the mid-twentieth century trend, treated Rhodiola as a subgenus of Sedum, but the Flora of North America has more recently returned to the original recognition of Rhodiola as a distinct genus (Moran 2009, p. 164) that includes Leedy's roseroot. The new combination is Rhodiola integrifolia Rafinesque ssp. leedyi (Rosendahl & J. W. Moore) H. Ohba (Ohba 2003, p. 218). The species was listed as threatened on April 22, 1992 (57 FR 14649) and will continue to be listed as threatened.

Mimulus michiganensis

The scientific name change of Mimulus michiganensis from Mimulus glabratus var. michiganensis is supported by Posto and Prather's (2003, pp. 172-173) extensive evolutionary and genetic studies. At the time of its listing (55 FR 25596; June 21, 1990), Mimulus glabratus var. michiganensis (Michigan monkey-flower) was ranked as a variety. Posto and Prather's (2003, pp. 172-178) study supports the elevation of the taxon in rank to species Mimulus michiganensis, and, therefore, the new combination was established and accepted in the scientific community. Pennell (1935 in USFWS 1997, p. 1) originally described the taxon as a subspecies of M. glabratus, and Fassett (1939 in USFWS 1997, p. 1) subsequently gave the taxon varietal status. Past researchers noted morphological overlap with other taxa, particularly the more common, wide-ranging James' monkey-flower (M. glabratus var. jamesii) (Crispin 1981 in USFWS 1997, p. 1; Bliss 1983 in USFWS 1997, p. 1; Bliss 1986 in USFWS 1997, p. 1), but floral character studies of closely related taxa supported maintaining variety michiganensis as a distinct taxonomic entity (Bliss 1983 in USFWS 1997, p. 1; Bliss 1986 in USFWS 1997, p. 1; Minc 1989 in USFWS 1997, p. 1).

However, random amplified polymorphic DNA (RAPD) data (Posto and Prather 2003, pp. 176-177) revealed the following: M. michiganensis is genetically distinct from other members of the Mimulus complex; it has low genetic similarity to M. glabratus var. jamesii (a species implicated in its origin); and groups of M. michiganensis individuals separate from all other individuals in the Unweighted Pair Group Method with Arithmetic Mean (UPGMA) phenogram. In addition, M. michiganensis is not interfertile with any other member of the M. glabratus complex, and it maintains its morphological distinctiveness where it is found sympatric with other M. glabratus (Posto and Prather 2003, p. 177). For these reasons, Posto and Prather (2003, p. 172) report the elevation of the taxon in rank from variety to species, and they found no evidence to support earlier hypotheses or a role of M. guttatus in the origin of M. michiganensis through hybridization with M. glabratus var. jamesii or through direct ancestry via an aneuploidy event. The species will continue to be listed as endangered.

Required Determinations

Paperwork Reduction Act of 1995

This rule does not contain any new collections of information that require approval by OMB under the Paperwork Reduction Act (44 U.S.C. 3501 et seq.). This rule will not impose recordkeeping or reporting requirements on State or local governments, individuals, businesses, or organizations. An agency may not conduct or sponsor, and a person is not required to respond to, a collection of information unless it displays a currently valid OMB control number.

National Environmental Policy Act

We have determined that we do not need to prepare Environmental Assessments, or Environmental Impact Statements, as defined under the authority of the National Environmental Policy Act of 1969 (42 U.S.C. 4321 et seq.), in connection with regulations adopted under section 4(a) of the Endangered Species Act. We published a notice outlining our reasons for this determination in the Federal Register on October 25, 1983 (43 FR 49244).

Clarity of the Rule

We are required by Executive Orders 12866 and 12988 and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in the ADDRESSES section. To help us to revise this rule, your comments should be as specific as possible. For example, you should tell us the numbers of the sections or paragraphs that are unclearly written, which sections or sentences are too long, the sections where you feel lists or tables would be useful, etc.

References Cited

A complete list of the referenced materials is available upon request from the U.S. Fish and Wildlife Service Midwest Regional Office (see FOR FURTHER INFORMATION CONTACT).

List of Subjects in 50 CFR Part 17

Endangered and threatened species, Exports, Imports, Reporting and recordkeeping requirements, Transportation.

Regulation Promulgation

For the reasons given in the preamble, we amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Public Law 99-625; 100 Stat. 3500; unless otherwise noted.

§ 17.12 [Amended]

2. Amend the List of Endangered and Threatened Plants in § 17.12(h) by:

a. Removing the entries under FLOWERING PLANTS for “Lesquerella filiformis”, “Mimulus glabratus var. michiganensis”, and “Sedum integrifolium ssp. leedyi”; and

b. Adding in alphabetic order under FLOWERING PLANTS entries for “Mimulus michiganensis (=M. glabratus var. michiganensis)”, “Physaria filiformis (=Lesquerella f.)”, and “Rhodiola integrifolia ssp. leedyi (=Sedum integrifolium ssp. l.)” to read as follows:

§ 17.12 Endangered and threatened plants.

* * * * *

(h) * * *

Species: Scientific name | Species: Common name | Historic range | Family | Status | When listed | Critical habitat | Special rules
* * * * * * *
Mimulus michiganensis (=Mimulus glabratus var. michiganensis) | Michigan monkey-flower | U.S.A. (MI) | Scrophulariaceae | E | 392, 780 | NA | NA
* * * * * * *
Physaria filiformis (=Lesquerella f.) | Missouri bladderpod | U.S.A. (AR, MO) | Brassicaceae | T | 253, 739, 780 | NA | NA
* * * * * * *
Rhodiola integrifolia ssp. leedyi (=Sedum integrifolium ssp. l.) | Leedy's roseroot | U.S.A. (MN, NY) | Crassulaceae | T | 460, 780 | NA | NA
* * * * * * *

Dated: August 19, 2010.
Wendi Weber,
Acting Deputy Director, Fish and Wildlife Service.

[FR Doc. 2010-22810 Filed 9-13-10; 8:45 am]

BILLING CODE 4310-55-P